DEPARTMENT OF HOUSING AND URBAN DEVELOPMENT

[Docket No. FR-5484-N-09]

Notice of Proposed Information Collection: Comment Request; Use Restriction Agreement Monitoring and Compliance

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: June 13, 2011.

ADDRESSES: Interested persons are invited to submit comments regarding this proposal. Comments should refer to the proposal by name and/or OMB Control Number and should be sent to: Colette Pollard, Reports Management Officer, Department of Housing and Urban Development, 451 7th Street, SW., L'Enfant Building, Room 8202, Washington, DC 20410; telephone (202) 402-3400 (this is not a toll-free number) for copies of the proposed forms and other available information.

FOR FURTHER INFORMATION CONTACT: Harry Messner, Office of Asset Management, Policy and Participation Standards Division, Department of Housing and Urban Development, 451 7th Street, SW., Washington, DC 20410, telephone number (202) 402-2626 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Use Restriction Agreement Monitoring and Compliance.

OMB Control Number, if applicable: 2502-0577.

Description of the need for the information and proposed use: This information is necessary for HUD to ensure that owners of certain multifamily housing projects comply with use restriction requirements once the mortgage agreement is terminated. This information is also used to monitor owner compliance with the Use Restriction Agreement provisions.

Agency form numbers, if applicable: HUD-90060, HUD-90061, HUD-90065, HUD-90066, HUD-93140, HUD-93142, HUD-93143, HUD-93144, HUD-90067, HUD-90068, HUD-90069, HUD-90070, HUD-93150, HUD-93155, HUD-90075.

Estimation of the total numbers of hours needed to prepare the information collection including numberof respondents, frequency of response, and hours of response: The estimated number of respondents is 590; the frequency of responses is on occasion/annual; estimated time to gather and prepare the necessary documents (combined) is 2 hours per submission, and the estimated total annual burden hours are 1,112.

Status of the proposed information collection: Extension of a currently approved collection.

Authority: The Paperwork Reduction Act of 1995, 44 U.S.C., Chapter 35, as amended.

Dated: April 5, 2011.
Ronald Y. Spraker,
Associate General Deputy Assistant Secretary for Housing.

[FR Doc. 2011-8598 Filed 4-11-11; 8:45 am]

BILLING CODE 4210-67-P